DEPARTMENT OF ENERGY

Federal Energy Regulatory Commission

Combined Notice of Filings #1

Take notice that the Commission received the following electric corporate filings:

Docket Numbers: EC16-58-000.

Applicants: ReEnergy Sterling CT Limited Partnership.

Description: Response to Commission Staff's request for supplemental information of ReEnergy Sterling CT Limited Partnership.

Filed Date: 2/25/16.

Accession Number: 20160225-5100.

Comments Due: 5 p.m. ET 3/07/16.

Docket Numbers: EC16-84-000.

Applicants: Kingbird Solar A, LLC, Kingbird Solar B, LLC.

Description: Application for Authorization Under Section 203 of the Federal Power Act and Request for Expedited Action, Confidential Treatment, and Waivers of Kingbird Solar A, LLC, et al.

Filed Date: 3/1/16.

Accession Number: 20160301-5443.

Comments Due: 5 p.m. ET 3/22/16.

Docket Numbers: EC16-85-000.

Applicants: Comanche Solar PV, LLC.

Description: Application for Authorization Under Section 203 of the Federal Power Act and Request for Waivers, Expedited Action, Shortened Comment Period, and Confidential Treatment of Comanche Solar PV, LLC.

Filed Date: 3/1/16.

Accession Number: 20160301-5514.

Comments Due: 5 p.m. ET 3/22/16.

Take notice that the Commission received the following electric rate filings:

Docket Numbers: ER13-1937-003.

Applicants: Southwest Power Pool, Inc.

Description: Compliance filing: Order No. 1000 Interregional SPP-MISO JOA Third Compliance Filing to be effective 3/30/2014.

Filed Date: 3/1/16.

Accession Number: 20160301-5222.

Comments Due: 5 p.m. ET 3/22/16.

Docket Numbers: ER13-1938-002.

Applicants: Midcontinent Independent System Operator, Inc.

Description: Compliance filing: 2016-03-01_MISO-SPP Order 1000 Compliance (2/2/2016 Order) to be effective 3/30/2014.

Filed Date: 3/1/16.

Accession Number: 20160301-5336.

Comments Due: 5 p.m. ET 3/22/16.

Docket Numbers: ER14-154-004; ER14-153-004; ER10-3143-016; ER10-2742-007.

Applicants: Gibson City Energy Center, LLC, Grand Tower Energy Center, LLC, Lakeswind Power Partners, LLC, Sabine Cogen, LP, Tilton Energy LLC.

Description: Second Amendment to June 26, 2015 Triennial Market-Based Rate Update Filing for the Central Region of the Rockland Sellers.

Filed Date: 3/1/16.

Accession Number: 20160301-5185.

Comments Due: 5 p.m. ET 3/22/16.

Docket Numbers: ER14-199-001.

Applicants: Lakewood Cogeneration, L.P.

Description: Compliance filing: Informational Filing of the Essential Power Companies to be effective N/A.

Filed Date: 3/1/16.

Accession Number: 20160301-5401.

Comments Due: 5 p.m. ET 3/22/16.

Docket Numbers: ER14-714-001.

Applicants: Essential Power Rock Springs, LLC.

Description: Compliance filing: Information Filing of the Essential Power Companies to be effective N/A.

Filed Date: 3/1/16.

Accession Number: 20160301-5403.

Comments Due: 5 p.m. ET 3/22/16.

Docket Numbers: ER14-715-001.

Applicants: Essential Power OPP, LLC.

Description: Compliance filing: Information Filing of the Essential Power Companies to be effective N/A.

Filed Date: 3/1/16.

Accession Number: 20160301-5400.

Comments Due: 5 p.m. ET 3/22/16.

Docket Numbers: ER16-1051-000.

Applicants: Graphic Packaging International, Inc.

Description: Baseline eTariff Filing: Application for Initial Market-Based Rate Tariff and Granting Certain Waivers to be effective 3/1/2016.

Filed Date: 3/1/16.

Accession Number: 20160301-5387.

Comments Due: 5 p.m. ET 3/22/16.

Docket Numbers: ER16-1052-000.

Applicants: HollyFrontier El Dorado Refining LLC.

Description: Tariff Cancellation: Notice of Cancellation of Market-Based Rate Tariff to be effective 3/1/2016.

Filed Date: 3/1/16.

Accession Number: 20160301-5394.

Comments Due: 5 p.m. ET 3/22/16.

Docket Numbers: ER16-1053-000.

Applicants: HollyFrontier El Dorado Refining LLC.

Description: Compliance filing: Refiling of Baseline Market-Based Rate Tariff to be effective 3/1/2016.

Filed Date: 3/1/16.

Accession Number: 20160301-5397.

Comments Due: 5 p.m. ET 3/22/16.

Docket Numbers: ER16-1054-000.

Applicants: Southwest Power Pool, Inc.

Description: § 205(d) Rate Filing: East Texas Cooperatives Stated Rate to be effective 5/1/2016.

Filed Date: 3/1/16.

Accession Number: 20160301-5410.

Comments Due: 5 p.m. ET 3/22/16.

Docket Numbers: ER16-1055-000.

Applicants: PJM Interconnection, L.L.C.

Description: § 205(d) Rate Filing: Original WMPA SA No. 4418, Queue No. AA2-123 to be effective 2/17/2016.

Filed Date: 3/2/16.

Accession Number: 20160302-5053.

Comments Due: 5 p.m. ET 3/23/16.

Docket Numbers: ER16-1056-000.

Applicants: Midcontinent Independent System Operator, Inc.

Description: § 205(d) Rate Filing: 2016-03-02_SA 2899 ITC Midwest-Northern States Power FCA (J278) to be effective 3/3/2016.

Filed Date: 3/2/16.

Accession Number: 20160302-5093.

Comments Due: 5 p.m. ET 3/23/16.

Docket Numbers: ER16-1057-000.

Applicants: Midcontinent Independent System Operator, Inc.

Description: Compliance filing: 2016-03-02_SA 6507_White Pine 1 SSR Settlement to be effective 6/1/2015.

Filed Date: 3/2/16.

Accession Number: 20160302-5099.

Comments Due: 5 p.m. ET 3/23/16.

Docket Numbers: ER16-1058-000.

Applicants: Consumers Energy Company.

Description: § 205(d) Rate Filing: Amendment to Rate Schedule No. 116 to be effective 5/1/2016.

Filed Date: 3/2/16.

Accession Number: 20160302-5149.

Comments Due: 5 p.m. ET 3/23/16.

Docket Numbers: ER16-1059-000.

Applicants: Cleco Power LLC.

Description: § 205(d) Rate Filing: amendments to Cleco Power Rate Schedule FERC No. 35 to be effective 3/3/2016.

Filed Date: 3/2/16.

Accession Number: 20160302-5152.

Comments Due: 5 p.m. ET 3/23/16.

Docket Numbers: ER16-1060-000.

Applicants: PJM Interconnection, L.L.C.

Description: § 205(d) Rate Filing: Original Service Agreement No. 4412; NQ-134 (ISA) to be effective 2/1/2016.

Filed Date: 3/2/16.

Accession Number: 20160302-5153.

Comments Due: 5 p.m. ET 3/23/16.

Docket Numbers: ER16-1061-000.

Applicants: Southwest Power Pool, Inc.

Description: § 205(d) Rate Filing: 1534R5 Kansas Municipal Energy Agency NITSA NOA to be effective 2/1/2016.

Filed Date: 3/2/16.

Accession Number: 20160302-5155.

Comments Due: 5 p.m. ET 3/23/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2016.
Nathaniel J. Davis, Sr.,
Deputy Secretary.

[FR Doc. 2016-05092 Filed 3-7-16; 8:45 am]

BILLING CODE 6717-01-P